DEPARTMENT OF TRANSPORTATION

Office of the Secretary

Aviation Proceedings, Agreements Filed the Week Ending November 7, 2003

The following Agreements were filed with the Department of Transportation under the provisions of 49 U.S.C. Sections 412 and 414. Answers may be filed within 21 days after the filing of the application.

Docket Number: OST-2003-16479.

Date Filed: November 5, 2003.

Parties: Members of the International Air Transport Association.

Subject:

Mail Vote 340,

PTC COMP 1104 dated 7 November 2003,

Resolution 010c—Special Amending Resolution r1-r4,

Intended effective date: 15 November 2003.

Docket Number: OST-2003-16483.

Date Filed: November 6, 2003.

Parties: Members of the International Air Transport Association.

Subject: Mail Vote 341, PTC COMP 1105 Resolution 010d—Special Passenger, Amending Resolution r1-r12, Intended effective date: 1 December 2003.

Andrea M. Jenkins,
Program Manager, Docket Operations, Federal Register Liaison.

[FR Doc. 03-29031 Filed 11-19-03; 8:45 am]

BILLING CODE 4910-62-P